ENVIRONMENTAL PROTECTION AGENCY

40 CFR Part 52

[DC048-2023; FRL-6921-1]

Approval and Promulgation of Air Quality Implementation Plans; District of Columbia; Nitrogen Oxides Budget Program

AGENCY: Environmental Protection Agency (EPA).

ACTION: Final rule.

SUMMARY: EPA is approving a State Implementation Plan (SIP) revision submitted by the District of Columbia (the District). This revision implements the District's portion of the Ozone Transport Commission's (OTC) September 27, 1994 Memorandum of Understanding (MOU) which describes a regional nitrogen oxides ( NOX) cap and trade program that will significantly reduce NOX emissions generated within the Ozone Transport Region (OTR). The intended effect of this action is to approve of the District's regulations entitled, NOX Emissions Budget Program as a SIP revision in accordance with the requirements of the Clean Air Act.

EFFECTIVE DATE: This final rule is effective on January 22, 2001.

ADDRESSES: Copies of the documents relevant to this action are available for public inspection during normal business hours at the Air Protection Division, U.S. Environmental Protection Agency, Region III, 1650 Arch Street, Philadelphia, Pennsylvania 19103; the Air and Radiation Docket and Information Center, U.S. Environmental Protection Agency, 401 M Street, SW, Washington, DC 20460; and the District of Columbia Department of Public Health, Air Quality Division, 51 N Street, NE., Washington, DC 20002.

FOR FURTHER INFORMATION CONTACT: Cristina Fernandez, (215) 814-2178, or via e-mail at fernandez.cristina@epa.gov.

SUPPLEMENTARY INFORMATION:

I. Background

On August 28, 2000, the District's Department of Health submitted a revision to its SIP for parallel processing. The revision to the SIP includes the addition of a new Chapter 10, Nitrogen Oxides Emissions Budget Program, to Title 20 of the District of Columbia Municipal Regulations (DCMR). On December 8, 2000, the District submitted fully adopted regulations as a supplement to its August 28, 2000 submittal. The revisions implement the Ozone Transport Commission's (OTC) September 27, 1994 Memorandum of Understanding (MOU) in the District. In accordance with the MOU, the revisions implement the District portion of a regional NOX cap and trade program that significantly reduces NOX emissions generated within the Ozone Transport Region (OTR). On October 19, 2000 (65 FR 62671), EPA published a notice of proposed rulemaking (NPR) for the District of Columbia proposing to approve the August 28, 2000 SIP revision. That NPR provided for a public comment period ending on November 9, 2000. On November 9, 2000 (65 FR 67319), EPA published a notice extending the comment period to November 20, 2000. A detailed description of these SIP revisions and EPA's rationale for approving them were provided in the October 19, 2000 NPR and will not be restated here. EPA received no comments on its proposed action to approve this SIP revision.

II. Final Action

EPA is approving the SIP revision request submitted for parallel processing by the District's Department of Health on August 28, 2000. The SIP revision and its associated regulations were formally adopted by the District of Columbia on December 8, 2000. The District formally submitted the fully adopted regulations to EPA as a supplement to its August 28, 2000 submittal. The regulations formally adopted were exactly the same as the proposed version upon which EPA proposed approval. The SIP revision consists of the District's Chapter 10—Nitrogen Oxides Emissions Budget Program and implements the District's portion of Phase II of the OTC's MOU to reduce nitrogen oxides. Approval of this SIP revision is necessary for full approval of the attainment demonstration SIP for the Metropolitan Washington, DC ozone nonattainment area.

III. Administrative Requirements

A. General Requirements

Under Executive Order 12866 (58 FR 51735, October 4, 1993), this action is not a “significant regulatory action” and therefore is not subject to review by the Office of Management and Budget. This action merely approves state law as meeting federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4). For the same reason, this rule also does not significantly or uniquely affect the communities of tribal governments, as specified by Executive Order 13084 (63 FR 27655, May 10, 1998). This rule will not have substantial direct effects on the States, on the relationship between the national government and the States, or on the distribution of power and responsibilities among the various levels of government, as specified in Executive Order 13132 (64 FR 43255, August 10, 1999), because it merely approves a state rule implementing a federal standard, and does not alter the relationship or the distribution of power and responsibilities established in the Clean Air Act. This rule also is not subject to Executive Order 13045 (62 FR 19885, April 23, 1997), because it is not economically significant. In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. As required by section 3 of Executive Order 12988 (61 FR 4729, February 7, 1996), in issuing this rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings” issued under the executive order. This rule does not impose an information collection burden under the provisions of the Paperwork Reduction Act of 1995 (44 U.S.C. 3501 et seq.).

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. This rule is not a “major rule” as defined by 5 U.S.C. 804(2).

C. Petitions for Judicial Review

Under section 307(b)(1) of the Clean Air Act, petitions for judicial review of this action must be filed in the United States Court of Appeals for the appropriate circuit by February 20, 2001. Filing a petition for reconsideration by the Administrator of this final rule does not affect the finality of this rule for the purposes of judicial review nor does it extend the time within which a petition for judicial review may be filed, and shall not postpone the effectiveness of such rule or action. This action to approve the District of Columbia NOX Budget Program may not be challenged later in proceedings to enforce its requirements. (See section 307(b)(2).)

List of Subjects in 40 CFR Part 52

Environmental protection, Air pollution control, Incorporation by reference, Nitrogen dioxide, Ozone, Reporting and recordkeeping requirements.

Dated: December 14, 2000.
Bradley M. Campbell,
Regional Administrator, Region III.

40 CFR part 52 is amended as follows:

PART 52—[AMENDED]

1. The authority citation for part 52 continues to read as follows:

Authority: 42 U.S.C. 7401 et seq.

Subpart J—District of Columbia

2. In § 52.470, an entry for Chapter 10 is added in numerical order in the “EPA Approved Regulations in the District of Columbia SIP” table in paragraph (c) to read as follows:

§ 52.470 Identification of plan.

* * * * *

(c) EPA approved regulations.

EPA-APPROVED REGULATIONS IN THE DISTRICT OF COLUMBIA SIP
State Citation | Title/Subject | State Effective Date | EPA Approval Date | Comments
* * * * * * *
Chapter 10 Nitrogen Oxides Emissions Budget Program
Section 1000 | Applicability | 12/08/00 | December 22, 2000. 65 FR 80784
Section 1001 | General Provisions | 12/08/00
Section 1002 | Allowance Allocation | 12/08/00
Section 1003 | Permits | 12/08/00
Section 1004 | Allowance Transfer and Use | 12/08/00
Section 1005 | Allowance Banking | 12/08/00
Section 1006 | NOX Allowance Tracking System | 12/08/00
Section 1007 | Emission Monitoring | 12/08/00
Section 1008 | Record Keeping | 12/08/00
Section 1009 | Reporting | 12/08/00
Section 1010 | End-Of-Season Reconciliation | 12/08/00
Section 1011 | Compliance Certification | 12/08/00
Section 1012 | Penalties | 12/08/00
Section 1013 | Program Audit | 12/08/00
Section 1099 | Definitions and Abbreviations | 12/08/00
* * * * * * *

[FR Doc. 00-32566 Filed 12-21-00; 8:45 am]

BILLING CODE 6560-50-P